DEPARTMENT OF EDUCATION

[CFDA No.: 84.290U]

Bilingual Education: Comprehensive School Grants; Notice Reopening Competition for New Awards

SUMMARY: On April 16, 2001, a notice inviting applications for new awards for fiscal year (FY) 2001 was published in the Federal Register (66 FR 19437—19471). This notice was a complete application package and contained all of the information, application forms, and instructions needed to apply for a grant under this program. The notice listed a deadline date of June 15, 2001, for the transmittal of applications and specified that applicants could submit their applications in either electronic or paper format.

Due to a power outage affecting the Department's Electronic Grant Application System (e-APPLICATION), applicants that intended to submit their applications in electronic format were unable to use the Internet-based electronic system for submitting applications on June 14-15 and consequently may have been unable to meet the application deadline date.

Since the deadline date has passed, this notice is intended to help potential applicants compete fairly under the Bilingual Education Comprehensive School Grants Program by reopening the competition for all applicants and establishing the new deadline dates specified below for transmittal of applications and intergovernmental review. You may submit your application to us in either electronic or paper format. You may access the electronic grant application at the following site: http://e-grants.ed.gov.

Deadline for Transmittal of Applications: July 2, 2001.

Deadline for Intergovernmental Review: August 30, 2001.

FOR FURTHER INFORMATION CONTACT: Margarita Ackley, Lorena Dickerson, or Jessica Knight, U.S. Department of Education, 400 Maryland Avenue, SW., Room 5086, Switzer Building, Washington, DC 20202-6510. Telephone: Margarita Ackley (202) 205-0506, Lorena Dickerson (202) 205-9044, Jessica Knight (202) 205-0706. E-mail: Margarita_Ackley@ed.gov; Lorena_Dickerson@ed.gov; Jessica_Knight@ed.gov.

Individuals who use a telecommunications device for the deaf (TDD) may call the Federal Information Relay Service (FIRS) at 1-800-877-8339.

Individuals with disabilities may obtain this notice in an alternative format (e.g., Braille, large print, audiotape, or computer diskette) on request to one of the contact persons listed above.

Electronic Access to this Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO) toll free, at 1-888-293-6498 or in the Washington, DC area at (202) 512-1530.

Note: The official version of this document is the document published in the Federal Register. Free Internet 1 access to the official edition of the Federal Register and the Code of Federal Regulations is available on GPO Access at: http://www.access.gpo.gov/nara/index.html.

Program Authority: 20 U.S.C. 7424.

Dated: June 21, 2001.
Arthur M. Love,
Acting Director, Office of Bilingual Education and Minority Languages Affairs.

[FR Doc. 01-16002 Filed 6-25-01; 8:45 am]

BILLING CODE 4000-01-U